DEPARTMENT OF TRANSPORTATION

Federal Aviation Administration

14 CFR Part 97

[Docket No. 30747; Amdt. No. 3394]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective October 18, 2010. The compliance date for each SIAP, associated Takeoff Minimums, and ODP is specified in the amendatory provisions.

The incorporation by reference of certain publications listed in the regulations is approved by the Director of the Federal Register as of October 18, 2010.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169; or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125), Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule ” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on October 1, 2010.
John M. Allen,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 18 NOV 2010

Decatur, AL, Pryor Field Rgnl, ILS OR LOC RWY 18, Orig

Decatur, AL, Pryor Field Rgnl, RNAV (GPS) RWY 18, Amdt 1

Meeker, CO, Meeker, RNAV (GPS) RWY 3, Amdt 2

Middletown, DE, Summit, RNAV (GPS) RWY 17, Amdt 2

Middletown, DE, Summit, RNAV (GPS) RWY 35, Amdt 1

Cross City, FL, Cross City, RNAV (GPS) RWY 31, Amdt 1

Cross City, FL, Cross City, RNAV (GPS)-A, Orig

Cross City, FL, Cross City, RNAV (GPS)-B, Orig

Cross City, FL, Cross City, VOR RWY 31, Amdt 19

Cedar Rapids, IA, The Eastern Iowa, ILS OR LOC RWY 9, Amdt 18

Fort Wayne, IN, Smith Field, Takeoff Minimums and Obstacle DP, Amdt 5

Wichita, KS, Wichita Mid Continent, VOR RWY 14, Amdt 1D

Boston, MA, General Edward Lawrence Logan Intl, Takeoff Minimums and Obstacle DP, Amdt 13

Salisbury, MD, Salisbury-Ocean City Wicomico Rgnl, ILS OR LOC RWY 32, Amdt 8

Salisbury, MD, Salisbury-Ocean City Wicomico Rgnl, RNAV (GPS) RWY 5, Amdt 1

Salisbury, MD, Salisbury-Ocean City Wicomico Rgnl, RNAV (GPS) RWY 14, Amdt 1

Salisbury, MD, Salisbury-Ocean City Wicomico Rgnl, RNAV (GPS) RWY 23, Amdt 1

Salisbury, MD, Salisbury-Ocean City Wicomico Rgnl, Takeoff Minimums and Obstacle DP, Amdt 1

Salisbury, MD, Salisbury-Ocean City Wicomico Rgnl, VOR RWY 23, Amdt 10A

Salisbury, MD, Salisbury-Ocean City Wicomico Rgnl, VOR RWY 32, Amdt 10

Monroe City, MO, Capt. Ben Smith Airfield-Monroe City Airport, Takeoff Minimums and Obstacle DP, Orig

Cleveland, MS, Cleveland Muni, NDB OR GPS RWY 17, Amdt 5, CANCELLED

Choteau, MT, Choteau, Takeoff Minimums and Obstacle DP, Amdt 1

Teterboro, NJ, Teterboro, RNAV (GPS)-C, Orig

Massena, NY, Massena Intl-Richards Field, RNAV (GPS) RWY 5, Amdt 2

Massena, NY, Massena Intl-Richards Field, RNAV (GPS) RWY 9, Amdt 1A

Massena, NY, Massena Intl-Richards Field, RNAV (GPS) RWY 23, Amdt 1A

Massena, NY, Massena Intl-Richards Field, RNAV (GPS) RWY 27, Amdt 1A

Millbrook, NY, Sky Acres, RNAV (GPS) RWY 17, Amdt 1A

New York, NY, LaGuardia, COPTER ILS OR LOC RWY 13, Orig

New York, NY, LaGuardia, COPTER ILS OR LOC/DME RWY 22, Amdt 2

New York, NY, LaGuardia, ILS OR LOC RWY 13, Amdt 1

New York, NY, LaGuardia, LOC RWY 31, Amdt 3

New York, NY, LaGuardia, VOR RWY 4, Amdt 3

New York, NY, LaGuardia, VOR/DME-H, Amdt 3

New York, NY, LaGuardia, VOR-F, Amdt 3

Findlay, OH, Findlay, RNAV (GPS) RWY 36, Amdt 1A

Findlay, OH, Findlay, VOR RWY 7, Amdt 12A

Findlay, OH, Findlay, VOR RWY 25, Amdt 5A

Findlay, OH, Findlay, VOR RWY 36, Amdt 6B

Fostoria, OH, Fostoria Metropolitan, NDB RWY 27, Amdt 5A

Fostoria, OH, Fostoria Metropolitan, RNAV (GPS) RWY 27, Amdt 1A

Fostoria, OH, Fostoria Metropolitan, VOR-A, Amdt 4A

Ravenna, OH, Portage County, RNAV (GPS) RWY 27, Orig

Ravenna, OH, Portage County, Takeoff Minimums and Obstacle DP, Orig

Ravenna, OH, Portage County, VOR-A, Amdt 6

Ravenna, OH, Portage County, VOR/DME RNAV OR GPS RWY 27, Amdt 2B, CANCELLED

Roseburg, OR, Roseburg Rgnl, Takeoff Minimums and Obstacle DP, Amdt 6

Mount Pocono, PA, Pocono Mountains Muni, RNAV (GPS) RWY 13, Amdt 2

Mount Pocono, PA, Pocono Mountains Muni, RNAV (GPS) RWY 31, Amdt 1

Mount Pocono, PA, Pocono Mountains Muni, Takeoff Minimums and Obstacle DP, Amdt 2

Mount Pocono, PA, Pocono Mountains Muni, VOR RWY 13, Amdt 7

North Myrtle Beach, SC, Grand Strand, ILS OR LOC/DME RWY 23, Amdt 11A

Brady, TX, Curtis Field, RNAV (GPS) RWY 17, Amdt 1A

Commerce, TX, Commerce Muni, Takeoff Minimums and Obstacle DP, Amdt 2

Commerce, TX, Commerce Muni, VOR/DME-A, Amdt 3

Lancaster, TX, Lancaster Rgnl, Takeoff Minimums and Obstacle DP, Amdt 2

Friday Harbor, WA, Friday Harbor, Takeoff Minimums and Obstacle DP, Amdt 3

Siren, WI, Burnett County, VOR OR GPS RWY 5, Amdt 2B

Solon Springs, WI, Solon Springs Muni, NDB RWY 19, Amdt 2A, CANCELLED

On September 15, 2010 (75 FR 178) the FAA published an Amendment in Docket No. 30743, Amdt 3390 to Part 97 of the Federal Aviation Regulations under section 97.23 and 97.33. The following entries, effective November 18, 2010, is hereby rescinded:

Fort Lauderdale, FL, Fort Lauderdale/Hollywood Intl, VOR RWY 27R, Amdt 12, CANCELLED

[FR Doc. 2010-25842 Filed 10-15-10; 8:45 am]

BILLING CODE 4910-13-P